DEPARTMENT OF ENERGY

Western Area Power Administration

2028 Resource Pool—Parker-Davis Project, Proposed Power Allocations

AGENCY: Western Area Power Administration, DOE.

ACTION: Notice of Parker-Davis Project proposed 2028 resource pool power allocations and request for comment.

SUMMARY: Western Area Power Administration (WAPA), a Federal Power Marketing Administration of the Department of Energy (DOE), announces its Parker-Davis Project (P-DP) proposed 2028 resource pool power allocations. WAPA developed the proposed power allocations under its Final 2028 P-DP Power Marketing Plan and Call for 2028 Resource Pool Applications (Final 2028 Plan), published in the Federal Register on November 12, 2024. Applications received by the January 31, 2025, deadline were considered for a proposed resource pool power allocation. This notice provides a list of the allottees and seeks comments from the public on the proposed resource pool allocations.

DATES: The comment period on this notice of proposed power allocations begins today and ends October 20, 2025. WAPA will accept comments by email or delivered by common carrier such as U.S. mail. WAPA reserves the right not to consider comments received or postmarked after the close of the comment period.

A single public information and comment forum about the proposed 2028 resource pool power allocations will be held virtually on October 3, 2025, beginning at 1 p.m. MST and concluding when comments are complete, or no later than 4 p.m. MST. Information for the virtual meeting may be found on WAPA's Desert Southwest Region (DSW) website at least 14 days prior to the event at www.wapa.gov/about-wapa/regions/dsw/pdpremarketing.

Oral and written comments may be presented at the public comment forum. A transcript of oral comments made at this forum will be available from the court reporter and on DSW's website identified previously. WAPA will accept written comments at any time during the comment period.

After all public comments have been considered, WAPA will publish the P-DP Final 2028 Resource Pool Power Allocations in the Federal Register.

ADDRESSES: Submit written comments about the proposed 2028 resource pool power allocations to: Scott R. Lund, Regional Manager, Desert Southwest Region, Western Area Power Administration, P.O. Box 6457, Phoenix, AZ 85005-6457, or email: pdp-remarketing@wapa.gov. All documentation developed or retained by WAPA for the purpose of developing the proposed 2028 resource pool power allocations is available for inspection and copying at the DSW Regional Office, located at 615 South 43rd Avenue, Phoenix, Arizona 85009. Many of these documents and supporting information are also available on DSW's website at: www.wapa.gov/about-wapa/regions/dsw/pdpremarketing.

FOR FURTHER INFORMATION CONTACT: Jennifer Henn, Power Marketing Advisor, Desert Southwest Region, Western Area Power Administration, phone: (602) 812-2348, or email: pdp-remarketing@wapa.gov.

SUPPLEMENTARY INFORMATION:

Background

WAPA published the Final 2028 P-DP Power Marketing Plan (Final 2028 Plan) on November 12, 2024 (89 FR 88999) to define how WAPA will market hydropower from the P-DP beginning October 1, 2028, and ending September 30, 2048. The current marketing plan and contracts expire on September 30, 2028. As part of the Final 2028 Plan, WAPA adjusted each existing preference contractor's Contract Rate of Delivery (CROD) by applying a pro rata share of an anticipated 3,750-kilowatt (kW) capacity increase at Davis Dam Unit 3 and then reduced the adjusted CROD by two percent to create a resource pool. The resulting resource pool included 5,259 kW of summer season capacity, including 748 kW of summer season withdrawable capacity, and 4,041 kW of winter season capacity, including 146 kW of winter season withdrawable capacity, for allocation to new allottees. Allocations from the resource pool were offered to entities using the Eligibility Criteria and Allocation Criteria for Resource Pool Allocations described in the Final 2028 Plan. WAPA would return excess resource pool capacity to existing contractors by pro rata share if necessary. Per the Final 2028 Plan, resource pool applications were due by January 31, 2025.

Proposed 2028 Resource Pool Allocations

In response to the call for resource pool applications, WAPA received four applications for the 2028 resource pool. WAPA used a two-step process to determine proposed power allocations from the 2028 resource pool. First, WAPA determined which applicants met the Eligibility Criteria as defined in the Final 2028 Plan. Next, WAPA used its discretion to determine the amount of the proposed allocations with consideration given to applicant historical load and consistency with the P-DP 2008 resource pool power allocations (71 FR 40503).

WAPA determined that two of the four applicants did not meet the Eligibility Criteria requirements and therefore were ineligible to receive an allocation. One application came from a preference entity that has an existing Federal hydropower contract with WAPA. Therefore, as addressed in responses to comments in the Final 2028 Plan, it does not qualify for the P-DP 2028 resource pool. The second application came from an entity that does not meet the utility status requirement. Electric utility status means the applicant has responsibility to meet load growth, has a distribution system, and is ready, willing, and able to purchase P-DP Federal power from WAPA on a wholesale basis for resale to retail customers. The applicant does not have a distribution system and, as a result, does not qualify for the P-DP 2028 resource pool.

WAPA is proposing allocations for the two entities that met all Eligibility Criteria requirements. The proposed 2028 resource pool allocations are preliminary and may change based on comments received. After reviewing and considering comments, WAPA will publish a notice of Final 2028 Resource Pool Allocations in the Federal Register and respond to comments.

The proposed 2028 resource pool allottees and proposed capacity allocations for firm electric service (FES) are listed in the following table:

Allottees | Proposed Parker-Davis Project post-2028 resource pool capacity allocations: Summer: Non-withdrawable FES allocation (kW) | Proposed Parker-Davis Project post-2028 resource pool capacity allocations: Summer: Withdrawable FES allocation (kW) | Proposed Parker-Davis Project post-2028 resource pool capacity allocations: Summer: Total FES allocation (kW) | Proposed Parker-Davis Project post-2028 resource pool capacity allocations: Winter: Non-withdrawable FES allocation (kW) | Proposed Parker-Davis Project post-2028 resource pool capacity allocations: Winter: Withdrawable FES allocation (kW) | Proposed Parker-Davis Project post-2028 resource pool capacity allocations: Winter: Total FES allocation (kW)
Industry Public Utilities | 703 | 304 | 1,007 | 936 | 73 | 1,009
San Pasqual Band of Indians | 703 | 304 | 1,007 | 936 | 73 | 1,009
Total 2028 Resource Pool | 1,406 | 608 | 2,014 | 1,872 | 146 | 2,018

WAPA's proposed resource pool allocations will not use the entire resource pool capacity. After adjusting each existing P-DP contractor's CROD by applying the anticipated 3,750 kW increase in marketable capacity, reducing the adjusted CROD by two percent, and then redistributing remaining resource pool capacity to existing contractors by pro rata share, the net effect to each existing contractor's current CROD would be an increase of approximately 0.67 percent in the summer and approximately 0.87 percent in the winter. The proposed CROD adjustments for existing contractors are posted on DSW's website at www.wapa.gov/about-wapa/regions/dsw/pdpremarketing. The existing CROD for Priority Use Power contractors will remain unchanged.

All allocations, including the new resource pool allocations, will be based on P-DP marketable capacity deemed to be available effective October 1, 2028.

Contracting Process

WAPA will apply the principles of the Power Marketing Initiative (PMI) (10 CFR 905.30 through 905.37) to P-DP for the forthcoming marketing period. Energy associated with the new resource pool will be based on a pro rata share of the allottee's seasonal CROD and published in the form of Quarterly Energy, as defined in the Final 2028 Plan.

WAPA solely determines the terms, conditions, rates, or charges of its power contracts. Each allottee is responsible for obtaining transmission arrangements beyond WAPA's system for delivery of Federal power to the allottee's load. WAPA must receive a letter of commitment from each allottee's serving utility or transmission provider by January 31, 2028, confirming the allottee will be able to receive the benefit of WAPA's 2028 resource pool, unless otherwise agreed to in writing by WAPA. Upon request, WAPA may assist an allottee in obtaining transmission arrangements for delivery of power.

Allottees will be required to execute an electric service contract no later than May 31, 2028, unless otherwise agreed to in writing by WAPA. Electric service contracts will be effective upon WAPA's signature, and service will begin on October 1, 2028, and continue through September 30, 2048.

Legal Authorities

The Final 2028 Plan was established under the Department of Energy Organization Act (42 U.S.C. 7101, et seq.); the Reclamation Act of June 17, 1902 (ch. 1093, 32 Stat. 388), as amended and supplemented by subsequent enactments, particularly section 9(c) of the Reclamation Project Act of 1939 (43 U.S.C. 485h(c)); and other acts specifically applicable to the projects involved. Allocating power from the resource pool falls within the Final 2028 Plan and is covered by this authority.

Regulatory Procedure Requirements

Environmental Compliance

WAPA has determined this proposed action fits within the following categorical exclusions listed in appendix B of 10 CFR part 1021: B4.1 (Contracts, policies, and marketing and allocation plans for electric power) and B4.4 (Power marketing services and activities). Categorically excluded projects and activities do not require preparation of either an environmental impact statement or an environmental assessment.¹A copy of the categorical exclusion determination is available on WAPA's website under the categorical exclusion 2024 menu at www.wapa.gov/about-wapa/regions/dsw/environment.

¹ The determination was done in compliance with the National Environmental Policy Act (NEPA) (42 U.S.C. 4321 et seq.) and DOE's NEPA Implementing Procedures (10 CFR part 1021).

Determination Under Executive Order 12866

WAPA has an exemption from centralized regulatory review under Executive Order 12866; accordingly, no clearance of this Federal Register notice by the Office of Management and Budget is required.

Signing Authority

This document of the Department of Energy was signed on August 28, 2025, by Tracey A. LeBeau, Administrator, Western Area Power Administration. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 29, 2025.
Jennifer Hartzell,
Alternate Federal Register Liaison Officer, U.S. Department of Energy.

[FR Doc. 2025-16885 Filed 9-2-25; 8:45 am]

BILLING CODE 6450-01-P